DEPARTMENT OF THE INTERIOR

National Park Service

Northeast Region Notice of Availability of Boston Harbor Islands General Management

AGENCY: National Park Service, Interior.

ACTION: Notice of availability.

SUMMARY: The National Park Service (NPS) has prepared a Final General Management Plan and Final Environmental Impact Statement (FEIS) for Boston Harbor Islands National Recreation Area in Massachusetts, both of which are now available from the NPS.

ADDRESSES: The Final General Management Plan and Final Environmental Impact Statement (FEIS) are available on the Internet at http://www.nps.gov/boha/pphtml/facts.html. Requests for copies should be sent to George E. Price, Jr., National Park Service Project Manager, Boston Harbor Islands, 408 Atlantic Avenue, Suite 228, Boston, Massachusetts 02110 or George_Price@nps.gov.

FOR FURTHER INFORMATION CONTACT: George Price at 617-223-8667.

SUPPLEMENTARY INFORMATION: In collaboration with the Boston Harbor Islands Partnership, the National Park Service prepared a Draft Environmental Impact Statement in accordance with section 102(c) of the National Environmental Policy Act of 1969. NPS received approximately 100 written comments and held 8 formal public meetings during the 60-day public comment period on the Draft EIS. The comments from individuals and public agencies did not require the NPS to add additional alternatives, significantly alter existing alternatives, or make changes to the impact analysis of the effects of any alternative. Therefore, an abbreviated format is used for the responses to comments in the Final EIS, in compliance with the 1978 implementing regulations (40 CFR 1503.4[c]) for National Environmental Policy Act.

Dated: October 14, 2003.
Marie Rust,
Regional Director, Northeast Region, National Park Service.

[FR Doc. 03-30559 Filed 12-9-03; 8:45 am]

BILLING CODE 4310-51-M